DEPARTMENT OF TRANSPORTATION

National Highway Traffic Safety Administration

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on December 13, 2000 (65 FR 77958-77959).

DATES: Comments must be submitted on or before October 4, 2001.

FOR FURTHER INFORMATION CONTACT: Walter Culbreath at the National Highway Traffic Safety Administration, (NAD-40), 202-366-1566. 400 Seventh Street, SW., Room 6132, Washington, DC 20590.

SUPPLEMENTARY INFORMATION:

National Highway Traffic Safety Administration

Title: National Survey of Drinking and Driving Attitudes & Behaviors—2001

OMB Number: 2127—New.

Type of Request: New information collection requirement.

Abstract: An agency goal is to reduce the number of alcohol related fatalities from 15,786, in 1999, to 11,000 by the year 2005. In support of this goal, NHTSA has conducted over past decade a series of bi-annual surveys of the driving-aged public (aged 16 or older) to identify patterns and trends in public attitudes and behaviors towards drinking and driving and public reaction to alcohol countermeasures aimed at reducing the occurrence of drinking and driving and alcohol related crashes. The proposed study, to be administered in the 3rd quarter of 2001, and the sixth in this series of biennial survey's will collect data on topics included in the first five studies (and several additional topics), including: frequency of drinking and driving and of riding with an impaired driver, ways to prevent drinking and driving, enforcement of drinking and driving laws including the use of sobriety checkpoints, understanding of BAC levels and legal limits, and crash and injury experience.

Affected Public: Randomly selected members of the general public aged sixteen and older in telephone households.

Estimated Total Annual Burden: 1,680.

ADDRESSES: Send comments, within 30 days, to the Office of Information and Regulatory Affairs, Office of Management and Budget, 725-17th Street, NW., Washington, DC 20503, Attention NHTSA Desk Officer.

Comments Are Invited On

Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, D.C., on August 29, 2001.
Herman L. Simms,
Associate Administrator for Administration.

[FR Doc. 01-22156 Filed 8-31-01; 8:45 am]

BILLING CODE 4910-59-P